DEPARTMENT OF ENERGY

Federal Energy Regulatory Commission

[Docket No. RP03-603-000]

Tennessee Gas Pipeline Company; Notice of Petition for Waiver

September 11, 2003.

Take notice that on September 2, 2003, Tennessee Gas Pipeline Company (Tennessee) tendered for filing a letter giving notice to the Commission of the impending termination of two service agreements between Tennessee and USGen New England, Inc. (USGen). Tennessee states that USGen is currently a party to two Gas Transportation Agreements for use under Tennessee's Rate Schedule FT-A (Agreements). The Agreements are dated August 1, 2002 and run through October 31, 2013.

Tennessee states that it has received information that USGen has filed a motion with the United States Bankruptcy Court for the District of Maryland seeking authorization to reject the Agreements. It is Tennessee's understanding that based on the Notice of Hearing filed by USGen, the Bankruptcy Court may rule to authorize the rejection, and thus terminate the Agreements, as early as September 4, 2003.

Tennessee states that pursuant to Article VI, Section 2 of the General Terms and Conditions (GT&C) of Tennessee's FERC Gas Tariff, if Tennessee seeks to terminate a service agreement for non-payment, then Tennessee must provide at least thirty days notice of such termination. Tennessee submits that GT&C Article VI, Section 2 does not apply to the instant situation because here the shipper is seeking to have the Bankruptcy Court terminate the Agreements. In accordance with the Bankruptcy Court's rules, Tennessee states that it is not at this time seeking to terminate the Agreements for non-payment.

Tennessee requests that the Commission grant Tennessee any waivers necessary, including a waiver of Article VI, Section 2 of the General Terms and Conditions of its tariff, for Tennessee to deem the agreements terminated immediately to the extent the Bankruptcy Court grants the motion to reject the Agreements, so that Tennessee may immediately remarket the capacity held under the Agreements.

Tennessee states that copies of the filing will be served on USGen.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”.

Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Comment Date: September 18, 2003.

Magalie R. Salas,
Secretary.

[FR Doc. 03-23813 Filed 9-17-03; 8:45 am]

BILLING CODE 6717-01-P